DEPARTMENT OF JUSTICE

Notice of Lodging of Proposed Consent Decree Under the Comprehensive Environmental Response, Compensation, and Liability Act

On June 10, 2024, the Department of Justice lodged a proposed Consent Decree with the United States District Court for the Eastern District of Missouri in the lawsuit entitled United States v. Santolubes, LLC, et al., Civil Action No. 24-cv-807.

The proposed Consent Decree would resolve claims the United States has brought pursuant to sections 106 and 107(a) of the Comprehensive Environmental Response, Compensation, and Liability Act, 42 U.S.C. 9606 and 9607(a), as amended by the Superfund Amendments and Reauthorization Act of 1986 (“CERCLA”), regarding the Findett/Hayford Bridge Road Groundwater Superfund Site Operable Unit 1 (“OU1”) in St. Charles County, Missouri.

Under the Consent Decree, Santolubes, LLC, Santolubes Manufacturing, LLC, and Santolubes Spartanburg Holdings will pay $300,000 for response costs at the Sites. Of these funds $280,000 will be deposited into a court registry account to be transferred either to the Environmental Protection Agency or any parties performing work at the Site under an agreement with the United States. The remaining $20,000 will be transferred to EPA to perform response actions at the Site. In exchange, the United States and the State will provide covenants not to sue or to take administrative action against Defendants pursuant to sections 106 and 107(a) of CERCLA, 42 U.S.C. 9606 and 9607(a) regarding the Site. This settlement is based on an analysis of the Defendant's limited ability to pay.

The publication of this notice opens a period for public comment on the Consent Decree. Comments should be addressed to the Assistant Attorney General, Environment and Natural Resources Division, and should refer to United States v. Santolubes, LLC, et al., 24-cv-807, D.J. Ref. No. 90-11-2-417/5. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. If you require assistance accessing the proposed Consent Decree, you may request assistance by email or by mail to the addresses provided above for submitting comments.

Kathryn C. Macdonald,
Assistant Section Chief, Environmental Enforcement Section, Environment and Natural Resources Division.

[FR Doc. 2024-13204 Filed 6-14-24; 8:45 am]

BILLING CODE 4410-15-P